DEPARTMENT OF TRANSPORTATION

Federal Aviation Administration

Receipt of Noise Compatibility Program and Request for Review

AGENCY: Federal Aviation Administration (FAA), DOT.

ACTION: Notice.

SUMMARY: The Federal Aviation Administration (FAA) announces that it is reviewing a proposed noise compatibility program that was submitted for San Carlos Airport under the provisions of the Aviation Safety and Noise Abatement Act, hereinafter referred to as “the Act,” by the County of San Mateo. This program was submitted subsequent to a determination by FAA that associated noise exposure maps for San Carlos Airport were in compliance with applicable requirements, effective April 23, 2019. The proposed 2019 noise compatibility program will be approved or disapproved on or before January 26, 2021.

DATES: The effective date of the start of FAA's review of the noise compatibility program 2019 is July 30, 2020. The public comment period ends September 28, 2020.

FOR FURTHER INFORMATION CONTACT: Camille Garibaldi, Environmental Protection Specialist, SFO-613, Federal Aviation Administration, San Francisco Airports District Office, 1000 Marina Boulevard, Suite 220, Brisbane, California 94005-1835; or by telephone at (650) 827-7613. Comments on the proposed noise compatibility program 2019 should be emailed to 9-awp-sfo-ado-communications@faa.gov or mailed to the above office.

SUPPLEMENTARY INFORMATION: This notice announces that the FAA is reviewing a proposed 2019 noise compatibility program for San Carlos Airport, which will be approved or disapproved on or before January 26, 2021. This notice also announces the availability of the San Carlos Airport noise compatibility program 2019 for public review and comment. An airport operator who has submitted noise exposure maps that are found by FAA to be in compliance with the requirements of 14 CFR part 150, promulgated pursuant to the Act, may submit a noise compatibility program for FAA approval which sets forth the measures the operator has taken or proposes to reduce existing non-compatible uses and prevent the introduction of additional non-compatible uses. The FAA has formally received the noise compatibility program 2019 for San Carlos Airport, effective on July 30, 2020. The airport operator has requested that the FAA review this material and that the noise mitigation measures, to be implemented jointly by the airport and surrounding communities, be approved as a noise compatibility program under section 47504 of the Act. Preliminary review of the submitted material for the proposed 2019 indicates that it conforms to 14 CFR part 150 requirements for the submittal of noise compatibility programs, but that further review will be necessary prior to approval or disapproval of the program. The formal review period, limited by law to a maximum of 180 days, will be completed on or before January 26, 2021.

The FAA's detailed evaluation will be conducted under the provisions of 14 CFR part 150, Section 150.33. The primary considerations in the evaluation process are whether the proposed measures may reduce the level of aviation safety or create an undue burden on interstate or foreign commerce, and whether they are reasonably consistent with obtaining the goal of reducing existing non-compatible land uses and preventing the introduction of additional non-compatible land uses.

Interested persons are invited to comment on the proposed noise compatibility program 2019 with specific reference to these factors. All comments relating to these factors, other than those properly addressed to local land use authorities, will be considered by the FAA to the extent practicable. Copies of the noise exposure maps, and the noise compatibility program 2019 are available for examination at the following locations:

http://sancarlosnoise.airportstudy.com/noise-study-documents/

San Mateo County Airports

San Carlos Airport, 620 Airport Drive, Suite 10, San Carlos, CA 94070-2714

Questions may be directed to the individual named above under the heading, FOR FURTHER INFORMATION CONTACT.

Issued in El Segundo, California on July 30, 2020.
Mark A. McClardy,
Director, Office of Airports, Western-Pacific Region, AWP-600.

[FR Doc. 2020-17014 Filed 8-4-20; 8:45 am]

BILLING CODE 4910-13-P